Memorandum of April 1, 2019

Delaying Submission of the Small Business Report Under the Trade Facilitation and Trade Enforcement Act of 2015

Memorandum for the Chief Counsel for Advocacy of the Small Business Administration

The Trade Facilitation and Trade Enforcement Act of 2015 (TFTEA) (Public Law 114-125) requires you to submit to the Congress a report on the economic impacts of a covered trade agreement on small businesses not more than 180 days after you convene an Interagency Working Group for the relevant trade agreement. The reports for the negotiations of trade agreements with Japan, the European Union, and the United Kingdom will be due during the course of negotiations. To ensure that the negotiations are not disrupted, however, by the authority vested in me as President by the Constitution and the laws of the United States of America, including section 502 of the TFTEA, I require you to delay the submission of each report until after the relevant negotiation is concluded, but not later than 30 days after the trade agreement is signed, provided that the delay allows you to submit the report to the Congress not later than 45 days before the Senate or the House of Representatives acts to approve or disapprove the trade agreement.

You are authorized and directed to publish this memorandum in the Federal Register.

THE WHITE HOUSE,

Washington, April 1, 2019

[FR Doc. 2019-06811

Filed 4-3-19; 11:15 am]

Billing code 8205-01-P